DEPARTMENT OF TRANSPORTATION

Coast Guard

33 CFR Part 117

[CGD01-01-098]

Drawbridge Operation Regulations: Kennebec River, ME

AGENCY: Coast Guard, DOT.

ACTION: Notice of temporary deviation from regulations.

SUMMARY: The Commander, First Coast Guard District, has issued a temporary deviation from the drawbridge operation regulations for the Carlton Bridge, mile 14.0, across the Kennebec River between Bath and Woolwich, Maine in order to facilitate major rehabilitation construction at the bridge. This deviation from the regulations, effective from July 5, 2001 through August 31, 2001, allows the bridge to remain closed for periods up to 48 consecutive hours as often as once a week. At all other times, the bridge will open at three scheduled times each weekday and will remain in the open position weeknights and weekends. Inbound commercial fishing vessels will be passed as soon as possible, except during the 48-hour closure periods.

DATES: This deviation is effective from July 5, 2001 through August 31, 2001.

FOR FURTHER INFORMATION CONTACT: John McDonald, Project Officer, First Coast Guard District, at (617) 223-8364.

SUPPLEMENTARY INFORMATION: The Carlton Bridge, at mile 14.0, across the Kennebec River has a vertical clearance in the closed position of 10 feet at mean high water and 16 feet at mean low water. The existing drawbridge operating regulations are listed at 33 CFR 117.525.

The bridge owner, Maine Department of Transportation (MDOT), requested a temporary deviation from the drawbridge operating regulations to facilitate the rehabilitation construction at the bridge. Scheduled bridge openings will allow the contractor to accomplish more work on a daily basis by eliminating work stoppage to provide bridge openings. Additionally, sufficient time is necessary to safely remove all construction workers and equipment from the bridge in order to provide timely bridge openings.

The bridge owner also requested that the bridge be allowed to remain in the closed position at various times to facilitate several phases of the rehabilitation construction. MDOT anticipates that the closures will not occur more than once a week and should not exceed 48 hours in duration. MDOT will provide three days notice prior to each closure to the Bath Harbor master, the local newspapers, and the Coast Guard in order to notify the public and assist marine interests.

This deviation to the operating regulations, effective from July 5, 2001 through August 31, 2001, allows the Carlton Bridge to need not open for vessel traffic between 6:30 a.m. and 4:30 p.m., Monday through Friday; except that, from 9 a.m. to 9:15 a.m., 12 p.m. to 12:30 p.m., and 2 p.m. to 2:15 p.m., the draw shall remain open for vessel traffic. The bridge will remain in the open position from 4:30 p.m. to 6:30 a.m., Monday through Friday, and all day on weekends. The bridge will also be allowed to remain closed to vessel traffic for periods up to 48 hours once a week during this deviation to facilitate bridge repairs. Inbound commercial fishing vessels will be passed as soon as possible, except during the 48 hour closure periods.

The bridge owner did not provide the required thirty-day notice to the Coast Guard for this deviation; however, this deviation was approved because the repairs are necessary in order to keep the bridge operating and prevent an unscheduled closure due to component failure.

In accordance with 33 CFR 117.35(c), this work will be performed with all due speed in order to return the bridge to normal operation as soon as possible.

This deviation from the operating regulations is authorized under 33 CFR 117.35.

Dated: July 5, 2001.
Gerald M. Davis,
Captain, U.S. Coast Guard, Acting Commander, First Coast Guard District.

[FR Doc. 01-17797 Filed 7-16-01; 8:45 am]

BILLING CODE 4910-15-U